DEPARTMENT OF THE INTERIOR

Environmental Statement; Notice of Availability

AGENCY: National Park Service.

ACTION: Notice of Availability for public review of a Draft Environmental Impact Statement (EIS) for the General Management Plan Amendment (GMPA) for Biscayne National Park in the State of Florida.

SUMMARY: The National Park Service (NPS) has prepared a draft Environmental Impact Statement on the General Management Plan Amendment for Biscayne National Park. The statement evaluates potential environmental impacts associated with various management alternatives for the preservation and use of 7 structures collectively known as Stiltsville in the northern portion of Biscayne Bay within the National Park. This GMPA and EIS have been prepared in response to the requirements of the National Parks and Recreation Act of 1978, Public Law 95-625, and in accord with Director's Order Number 2, the planning guidance for National Park Service units that became effective May 27, 1998. The NPS has conducted public scoping meetings in the local area to receive input from interested parties on issues, concerns, and suggestions pertinent to the management of the Stiltsville area of Biscayne National Park. The comment period for this draft GMPA/EIS will be 60 days from the publication of the Environmental Protection Agency's Notice of Availability in the Federal Register.

Please note that due to public disclosure requirements, the National Park Service, if requested, is required to make the names and addresses of those who submit written comments public. Individual respondents may request that we withhold their names and addresses from the public record. If you wish to withhold your name and/or address, you must state that request prominently at the beginning of your comment. Anonymous comments will be included in the public record. However, the National Park Service is not legally required to consider or respond to anonymous comments. We will make all submissions from organizations or businesses, and from individuals identifying themselves as representatives or officials of organizations or businesses, available for public inspection in their entirety.

DATES: Two public meetings will be conducted to receive comments on the draft EIS for the GMPA. On Monday, December 16, 2002, a meeting will be held at Keys Gate Golf and Tennis Club, 2300 Palm Drive, Homestead, Florida from 3 p.m. until 8 p.m. On Tuesday, December 17, 2002, a meeting will be held at the Renaissance Ballroom, 5910 SW 8 Street, Miami, Florida from 3 p.m. until 8 p.m.

ADDRESSES: Comments on the EIS should be submitted to the following address to ensure adequate consideration by the Service: Superintendent, Biscayne National Park, 9700 SW. 328th Street, Homestead, Florida, 33033-5634 or by email, bisc_stiltsville@nps.gov.

FOR FURTHER INFORMATION CONTACT: Superintendent, Biscayne National Park, 9700 SW. 328th Street, Homestead, Florida, 33033-5634, (305) 230-1144, ext. 3002.

SUPPLEMENTARY INFORMATION: The Draft and Final General Management Plan Amendment and Environmental Impact Statement will be made available to all known interested parties and appropriate agencies. Full public participation by federal, state, and local agencies as well as other concerned organizations and private citizens is invited throughout the preparation process of this document.

The responsible official for this Environmental Impact Statement is Patricia A. Hooks, Acting Regional Director, Southeast Region, National Park Service, 100 Alabama Street SW., 1924 Building, Atlanta, Georgia 30303.

Dated: September 26, 2002.
Jerre Brumbelow,
Acting Regional Director, Southeast Region.

[FR Doc. 02-30490 Filed 12-2-02; 8:45 am]

BILLING CODE 4310-70-P